DEPARTMENT OF THE INTERIOR

Indian Arts and Crafts Board

Proposed Agency Information Collection with Indian Artist/Artisan Survey; Comment Request

AGENCY: Indian Arts and Crafts Board, Interior.

ACTION: Notice.

SUMMARY: The Indian Arts and Crafts Board (IACB) announces an information collection to generate baseline numbers for the Strategic Plan, as well as other statistics to be used for evaluating and strengthening our Congressional mandate. Comments on this collection are requested form the public. After the public review, the IACB will submit the information collection to OIRA-OMB for review and approval as required by the Paperwork Reduction Act of 1995.

DATES: Submit comments on or before February 14, 2006.

ADDRESSES: Send your written comments to Attention: Indian Arts and Crafts Board, U.S. Department of the Interior, 1849 C Street, NW., MS-2058 MIB, Washington, DC 20240. If you wish to submit comments by facsimile, the number is (202) 308-5196, or you may send them by e-mail to “iacb@ios.doi.gov”. Please mention that your comments concern the Indian Artist/Artisan Survey, OMB control # 1085-0003.

FOR FURTHER INFORMATION CONTACT: Requests for additional information or copies of the Indian Artist/Artisan Survey, OMB Control # 1085-0003, i.e., the information collection instrument, should be directed to Meridith Z. Stanton, Director, Indian Arts and Crafts Board, 1849 C Street, NW., MS 2058 MIB, Washington, DC. 20240. You may also call (202) 208-3773 (not a toll free call), or sent your request by e-mail to “iacb@ios.doi.gov” or by facsimile to (202) 208-5196.

SUPPLEMENTARY INFORMATION:

I. Abstract

The IACB is responsible for promoting the development of American Indian and Alaska Native Arts and crafts, improving the economic status of members of Federally recognized Tribes, and helping to develop and expand marketing opportunities for arts and crafts produced by Native American Indians and Alaska Natives. This year, the Secretary of the Interior has mandated that each department complete a Strategic Plan. In conjunction with this plan, the Commissioners for the IACB have requested that the IACB generate baseline numbers that will be included in the Strategic Plan, as well as other statistics that will be used for evaluating and strengthening our Congressional mandate. The IACB has designed a questionnaire that would produce valid and reliable results that can be generalized to the entire universe of study. It is directed toward the Native American Indian and Alaska Native artist/artisan constituency. The questionnaire is to be utilized at Indian markets across the country, which is where most artists and artisans served by the IACB sell their work. Recently, the IACB learned that it would be able to participate in the Santa Fe Indian Market, the largest event in the Southwest, and felt this would be an excellent opportunity to utilize the questionnaire. In order to do this, it requested emergency approval of the Indian Artist/Artisan Survey; OMB approved the survey under OMB Control Number 1085-0003. The IACB is planning to extend the information collection approval for the standard three years and to add additional surveys in other regions necessary to establish a national baseline.

II. Data

(1) Title: Indian Artist/Artisan Survey.

OMB Control Number: 1085-0003.

Current Expiration Date: February 28, 2006.

Type of Review: Information Collection Renewal.

Affected Entities: Businesses or other for-profit entities; Tribes.

Estimated annual number of respondents: 400.

Frequency of response: Annual.

(2) Annual reporting and record keeping burden.

Total annual reporting per respondent: 10 minutes.

Total annual reporting: 67 hours.

(3) Description of the need and use of the information: This information is required to generate baseline numbers for our Strategic Plan, as well as other statistics to be used for evaluating and strengthening our Congressional mandate.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection in Room 2058 of the Main Interior Building, 1849 C Street, NW., Washington, DC from 9 a.m. until 3 p.m., Monday through Friday, excluding legal holidays. A valid picture identification is required for entry into the Department of the Interior. the comments, with names and addresses, will be available for public view during regular business hours. If you wish us to withhold your personal information, you must prominently state at the beginning of your comment what personal information you want us to withhold. We will honor your request to the extent allowable by law.

An agency may not conduct or sponsor, and a person is not required to respond to, a collection of information unless it displays a currently valid Office of Management and Budget control number.

Dated: December 9, 2005.
Meridith Z. Stanton,
Director, Indian Arts and Crafts Board.

[FR Doc. 05-24105 Filed 12-15-05; 8:45 am]

BILLING CODE 4310-RK-M